DEPARTMENT OF TRANSPORTATION

National Highway Traffic Safety Administration

[Docket No. NHTSA 2000-7354; Notice 1]

Honda Motor Co., Ltd.; Receipt of Application for Temporary Exemption From Federal Motor Vehicle Safety Standard No. 123

Honda Motor Co. Ltd. (“Honda”), a Japanese corporation, through American Honda Motor Co., Inc., of Torrance, California, has applied for a temporary exemption of two years from a requirement of S5.2.1 (Table 1) of Federal Motor Vehicle Safety Standard No. 123 Motorcycle Controls and Displays. The basis of the request is that “compliance with the standard would prevent the manufacturer from selling a motor vehicle with an overall safety level at least equal to the overall safety level of nonexempt vehicles,” 49 U.S.C. 30113(b)(3)(B)(iv).

We are publishing this notice of receipt of an application in accordance with the requirements of 49 U.S.C. 30113(b)(2). This action does not represent any judgment of the agency on the merits of the application.

Honda has applied on behalf of its NSS250 motor scooters. The scooters are defined as “motorcycles” for purposes of compliance with the Federal motor vehicle safety standards.

If a motorcycle is produced with rear wheel brakes, S5.2.1 of Standard No. 123 requires that the brakes be operable through the right foot control (the left handlebar is permissible only for a motor driven cycle (Item 11, Table 1), i.e., a motorcycle with a motor that produces 5 brake horsepower or less).

Honda petitions that it be allowed to use the left handlebar as the control for the rear brakes of its NSS250, which is a motorcycle and not a motor driven cycle. The model features an automatic transmission that eliminates the left-hand clutch lever as well as any left-foot gearshift lever. This leaves the left hand of the rider free to operate a brake lever. In Honda's opinion, “removal of the left-handlebar clutch lever, left-foot-controlled gearshift lever and right-foot-controlled rear brake pedal result in simpler operation.” Honda points out that NHTSA exempted three other motorcycle manufacturers from this requirement of S5.2.1. in 1999 (Aprilia, 64 FR 44262; Vectrix, 64 FR 45585; and Italjet, 64 FR 58127).

Honda argues that the overall level of safety of the scooters equals or exceeds that of a motorcycle that complies with the brake control location requirement of Standard No. 123. Unlike the other exempted motorcycles, the NSS250 is equipped with a “combined brake system” which “provides single-point, front- and rear-wheel braking action.” The vehicle meets the braking performance requirements “of both FMVSS 122 and ECE78.” The company submitted test results demonstrating that the braking performance of the NSS250 with its combined brake system is better than that of a scooter without the combined brake system. For the second effectiveness test, for example, the NSS250 stopped in shorter distances than a Honda model equipped with a foot brake, that is to say, from a maximum speed of 65.4 mph in 165 feet (compared with 178 feet), and, from 30 mph, in 38 feet (compared with 40 feet).

Honda has developed the NSS250 for the world market. In Europe, Japan, and other Asian countries, scooters are equipped with handlebar-mounted front and rear brakes. Absent an exemption, then, Honda will be unable to sell the NSS250 in the United States. The cost to conform the NSS250 to comply with Standard No. 123 “would add considerable cost to the product” and result in a motorcycle that would not be competitive.

Honda will not sell more than 2,500 scooters a year while an exemption is in effect. It believes that an exemption would be in the public interest and consistent with the objectives of traffic safety because “the level of safety is equal to similar vehicles certified under FMVSS No. 123.”

You may submit comments on the application described above. Comments should refer to the docket number and the notice number, and be submitted to: Docket Management, Room PL-401, 400 Seventh Street, SW, Washington, DC 20590. You should send at least two copies.

We shall consider all comments received before the close of business on the comment closing date indicated below. Comments will be available for examination in the docket at the above address both before and after that date. The Docket Room is open from 10:00 a.m. until 5:00 p.m. To the extent possible, comments filed after the closing date will also be considered.

We shall publish a notice of final action on the application pursuant to the authority indicated below.

Comment closing date: June 19, 2000.

(49 U.S.C. 30113; delegations of authority at 49 CFR 1.50. and 501.8)

Issued on May 11, 2000.
Stephen R. Kratzke,
Associate Administrator for Safety Performance Standards.

[FR Doc. 00-12556 Filed 5-17-00; 8:45 am]

BILLING CODE 4910-59-P